DEPARTMENT OF STATE

[Public Notice 5606]

30-Day Notice of Proposed Information Collection: DS-2029, Application for Consular Report of Birth of a Citizen of the United States of America, OMB Control No. 1405-0011

ACTION: Notice of request for public comments and submission to OMB of proposed collection of information.

SUMMARY: The Department of State has submitted the following information collection request to the Office of Management and Budget (OMB) for approval in accordance with the Paperwork Reduction Act of 1995.

• Title of Information Collection: Application for Consular Report of Birth Abroad of a Citizen of the United States of America.

• OMB Control Number: 1405-0011.

• Type of Request: Extension of a currently approved collection.

• Originating Office: Consular Affairs, Office of Overseas Citizen Services (CA/OCS).

• Form Number: DS-2029.

• Respondents: Parents or legal guardians of United States citizen children born overseas.

• Estimated Number of Respondents: 52,000 per year.

• Estimated Number of Responses: 52,000.

• Average Hours Per Response: 20 minutes.

• Total Estimated Burden: 17,333.

• Frequency: On occasion.

• Obligation To Respond: Voluntary.

DATES: Submit comments to the Office of Management and Budget (OMB) for up to 30 days from November 7, 2006.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Monica Gaw, Department of State, Bureau of Consular Affairs, Office of Overseas Citizens Services, SA-29 4th Floor, 2100 Pennsylvania Avenue NW., Washington, DC 20037, who may be reached on 202-736-9107, and GawMA@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The DS-2029, Application for Consular Report of Birth Abroad of a Citizen of the United States of America, is used by citizens of the United States to report the birth of a child while overseas. The information collected on this form will be used to certify the acquisition of U.S. citizenship at birth of a person born abroad and can be used by that child throughout life.

Methodology

The DS-2029 will be available to download from the Internet. An application for a Consular Report of Birth is normally made in the consular district in which the birth occurred. The parent respondents will fill the form out and take it to a United States Consulate or Embassy, who will examine the documentation and enter the information provided into the Department of State American Citizen Services (ACS) electronic database.

Dated: October 24, 2006.
Maura Harty,
Assistant Secretary, Bureau of Consular Affairs, Department of State.

[FR Doc. E6-18779 Filed 11-6-06; 8:45 am]

BILLING CODE 4710-06-P